DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Cross-Site Evaluation of the Minority Substance Abuse/HIV Prevention Program—(OMB No. 0930-0298)—Revision

The Substance Abuse and Mental Health Services Administration (SAMHSA), Center for Substance Abuse Prevention (CSAP) is requesting from the Office of Management and Budget (OMB) approval for the revision of data collection activities for the cross-site study of the Minority HIV/AIDS Initiative (MAI), which includes both youth and adult questionnaires. This revision includes the addition of 4 cohorts, changes to the data collection procedures based on intervention duration, and the addition of two questions on binge drinking behavior. The current approval is under OMB No. 0930-0298, which expires on 4/30/12.

This cross-site evaluation supports two of SAMHSA's 8 Strategic Initiatives: Prevention of Substance Abuse and Mental Illness and Data, Outcomes, and Quality. It builds on six previous grant programs funded by SAMHSA's CSAP to provide substance abuse and HIV prevention services for minority populations. The first two were planning grant programs and the last four were service grant programs. The goals for the Cohort 3-6 grants were to add, increase, or enhance integrated substance abuse (SA) and HIV prevention services by providing supportive services and strengthening linkages between service providers for at-risk minority populations. The HIV Cohort 1-3 previously received clearance under OMB No. 0930-0208 and Cohort 6 grants previously received clearance under OMB No. 0930-0298. Since neither the HIV Cohort 4 nor the Cohort 5 Programs were cross-site studies, they did not require OMB clearance. The current HIV Minority SA/HIV Prevention Program funded:

• Cohorts 7 and 8 Prevention of Substance Abuse (SA) and HIV for At-Risk Racial/Ethnic Minority Subpopulations Cooperative Agreements—60 grants for 5 years,

• Cohort 9 Ready-To-Respond Initiative—35 grants for 5 years, and

• Cohort 10 Capacity Building Initiative—27 grants for 5 years.

Grantees are community based organizations that are required to address the SAMSHA Strategic Prevention Framework (SPF) and participate in this cross-site evaluation. The grantees are expected to provide leadership and coordination on the planning and implementation of the SPF that targets minority populations, the minority reentry population, as well as other high risk groups residing in communities of color with high prevalence of SA and HIV/AIDS. The primary objectives of the cross-site study are to: (1) Determine the success of the MAI in preventing, delaying, and/or reducing the use of alcohol, tobacco, and other drugs (ATOD) among the target populations. The results of this cross-site study will assist SAMHSA/CSAP in promoting and disseminating optimally effective prevention programs; (2) Measure the effectiveness of evidence-based programs and infrastructure development activities such as: Outreach and training, mobilization of key stakeholders, substance abuse and HIV/AIDS counseling and education, referrals to appropriate medical treatment and/or other intervention strategies (i.e., cultural enrichment activities, educational and vocational resources, and computer-based curricula); and (3) Assess the process of adopting and implementing the Strategic Prevention Framework (SPF) with the target populations.

The grantees are expected to provide an effective prevention process, direction, and a common set of goals, expectations, and accountabilities to be adapted and integrated at the community level. While the grantees have substantial flexibility in choosing their individual evidence-based programs, they are all required to base them on the five steps of the SPF to build service capacity specific to SA and HIV prevention services. Conducting this cross-site evaluation will assist SAMHSA/CSAP in promoting and disseminating optimally effective prevention programs.

Grantees must also conduct ongoing monitoring and evaluation of their projects to assess program effectiveness including Federal reporting of the Government Performance and Results Act (GPRA) of 1993, SAMHSA/CSAP National Outcome Measures (NOMs), and HIV Counseling and Testing. All of this information will be collected through self-report questionnaires administered to program participants. All grantees will use two instruments, one for youth aged between 12 and 17 and one for adults aged 18 and older. Participants in interventions lasting 30 days or longer will complete questionnaires three times, taking an average of 50 minutes for baseline, exit, and follow-up questionnaires. Participants in interventions lasting 2-29 days will complete questionnaires two times taking an average of 30 minutes to complete. Single-session intervention participants will complete one questionnaire at exit only. The GPRA and NOMs measures on the instruments have already been approved by OMB (OMB No. 0930-0230), and the remaining HIV-related questions have been approved under OMB No. 0930-0298.The youth questionnaire contains 125 questions, of which 28 relate to HIV/AIDS and the adult questionnaire contains 118 items, 47 of which relate to HIV/AIDS. Two additional questions have been added to address SAMHSA's need to collect information on binge drinking behavior.

These questions are:

1. Females only: During the past 30 days, on how many days did you have 4 or more drinks on the same occasion?

2. Males only: During the past 30 days, on how many days did you have 5 or more drinks on the same occasion?

Sample size, respondent burden, and intrusiveness have been minimized to be consistent with the cross-site objectives. Procedures are employed to safeguard the privacy and confidentiality of participants. Every effort has been made to coordinate cross-site data collection with local data collection efforts in an attempt to minimize respondent burden.

The cross-site evaluation results will have significant implications for the substance abuse and HIV/AIDS prevention fields, the allocation of grant funds, and other evaluation activities conducted by multiple Federal, State, and local government agencies. They will be used to develop Federal policy in support of SAMHSA/CSAP program initiatives, inform the public of lessons learned and findings, improve existing programs, and promote replication and dissemination of effective prevention strategies.

Total Estimates of Annualized Hour Burden

The following table shows the estimated annualized burden for data collection.

Table 1a—Estimates of Annualized Hour Burden by Intervention Length
Intervention length | Number of respondents | Responses per respondent | Total responses | Hours per response | Total hour burden
30-Day or More Intervention
Baseline | 7,937 | 1 | 7,937 | 0.83 | 6,588
Exit | 4,887 | 1 | 4,887 | 0.83 | 4,056
Follow-up | 2,942 | 1 | 2,942 | 0.83 | 2,442
Subtotal | 7,937 |  | 15,766 |  | 13,086
2- to 29-Day Intervention
Baseline | 1,416 | 1 | 1,416 | 0.5 | 708
Exit | 872 | 1 | 872 | 0.5 | 436
Subtotal | 1,416 |  | 2,288 |  | 1,144
Single Day Intervention
Exit | 2,458 | 1 | 2,458 | 0.25 | 614
Annualized Total | 11,811 |  | 20,512 |  | 14,844

Table 1b—Estimates of Annualized Hour Burden by Survey Type
Questionnaire | Number of respondents | Total responses | Total hour burden
Annualized Total Adult | 9,682 | 16,899 | 12,234
Annualized Total Youth | 2,128 | 3,612 | 2,610
Annualized Total | 11,811 | 20,512 | 14,844

Send comments to Summer King, SAMHSA Reports Clearance Officer, Room 8-1099, One Choke Cherry Road, Rockville, MD 20857 or e-mail a copy to summer.king@samhsa.hhs.gov. Written comments must be received before 60 days after the date of the publication in the Federal Register.

Dated: July 21, 2011.
Kathleen G. Milenkowic,
Director, Division of Operational Support.

[FR Doc. 2011-18941 Filed 7-26-11; 8:45 am]

BILLING CODE 4162-20-P